DEPARTMENT OF TRANSPORTATION

Federal Aviation Administration

14 CFR Part 39

[Docket No. FAA-2008-0196; Directorate Identifier 2008-CE-002-AD; Amendment 39-15482; AD 2008-09-02]

RIN 2120-AA64

Airworthiness Directives; APEX Aircraft Model CAP 10B Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

Further to a new fracture in flight of a CAP 10B wing in June 2003, the investigation in process seems to point out that a wrong application of CAP 10B Service Bulletin No. 16 (CAP 10B-57-004) would lead to the impossibility of detecting the potential spar damage while performing the Type Certificate holder upper spar flange inspection.

We are issuing this AD to require actions to correct the unsafe condition on these products.

DATES: This AD becomes effective May 27, 2008.

On May 27, 2008, the Director of the Federal Register approved the incorporation by reference of APEX Aircraft Document No. 1000913GB, dated February 4, 2002; APEX Aircraft Document No. 1000914GB, dated February 4, 2002; and APEX Aircraft Document No. 1000915GB, dated February 4, 2002, listed in this AD.

As of July 23, 1993 (58 FR 31342, June 2, 1993), the Director of the Federal Register approved the incorporation by reference of Avions Mudry & CIE Service Bulletin CAP 10B No. 16, dated April 27, 1992, listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Discussion

We issued a notice of proposed rulemaking (NPRM) to amend 14 CFR part 39 to include an AD that would apply to the specified products. That NPRM was published in the Federal Register on February 25, 2008 (73 FR 9968) and proposed to supersede AD 2003-04-02, Amendment 39-13050 (68 FR 7904, February 19, 2003). That NPRM proposed to correct an unsafe condition for the specified products. The MCAI states:

Further to a new fracture in flight of a CAP 10B wing in June 2003, the investigation in process seems to point out that a wrong application of CAP 10B Service Bulletin No. 16 (CAP 10B-57-004) would lead to the impossibility of detecting the potential spar damage while performing the Type Certificate holder upper spar flange inspection.

The MCAI requires you to check that the No. 1 wing rib has been modified, comply with load factors and operating limitations, and do repetitive inspections of the upper and lower spar flanges and landing gear attachment blocks.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

Based on the service information, we estimate that this AD will affect 31 products of U.S. registry. We also estimate that it will take about 20 work-hours per product to comply with basic requirements of this AD. The average labor rate is $80 per work-hour.

Based on these figures, we estimate the cost of this AD to the U.S. operators to be $49,600 or $1,600 per product.

The estimated total cost on U.S. operators includes the cumulative costs associated with those airplanes affected by AD 2003-04-02 and those costs associated with the new actions that would be added in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13050 (68 FR 7904, February 19, 2003) and adding the following new AD:

2008-09-02 APEX Aircraft: Amendment 39-15482; Docket No. FAA-2008-0196; Directorate Identifier 2008-CE-002-AD.

Effective Date

(a) This airworthiness directive (AD) becomes effective May 27, 2008.

Affected ADs

(b) This AD supersedes AD 2003-04-02, Amendment 39-13050.

Applicability

(c) This AD applies to Model CAP 10B airplanes, serial numbers (SNs) 01, 02, 03, 04, and 1 through 282, certificated in any category, that have not been fitted with a replacement wood/carbon wing following application of major change 000302.

Subject

(d) Air Transport Association of America (ATA) Code 57: Wings.

Reason

(e) The mandatory continuing airworthiness information (MCAI) states:

Further to a new fracture in flight of a CAP 10B wing in June 2003, the investigation in process seems to point out that a wrong application of CAP 10B Service Bulletin No. 16 (CAP 10B-57-004) would lead to the impossibility of detecting the potential spar damage while performing the Type Certificate holder upper spar flange inspection.

The MCAI requires you to check that the No. 1 wing rib has been modified, comply with load factors and operating limitations, and do repetitive inspections of the upper and lower spar flanges and landing gear attachment blocks.

Actions and Compliance

(f) Unless already done, do the following actions:

(1) For Model CAP 10B airplanes with SNs 01, 02, 03, 04, and 1 through 263, within the next 100 hours time-in-service (TIS) after July 23, 1993 (the compliance date retained from AD 2003-04-02), unless already done, install a permanent inspection opening in the No. 1 wing rib following Avions Mudry Service Bulletin CAP10B No. 16, dated April 27, 1992. Inspection openings are incorporated during production for airplanes having a serial number of 264 or higher.

(2) For all affected airplanes, initially inspect the upper wing spar cap, the main wing spar undersurface, and the landing gear attachment blocks for cracks within the next 55 hours TIS after April 4, 2003 (the compliance date retained from AD 2003-04-02) following APEX Aircraft Document No. 1000913GB, dated February 4, 2002; APEX Aircraft Document No. 1000914GB, dated February 4, 2002; and APEX Aircraft Document No. 1000915GB, dated February 4, 2002. Repetitively inspect the upper wing spar cap and the main wing spar undersurface thereafter at intervals not to exceed 55 hours TIS. Repetitively inspect the landing gear attachment blocks thereafter at intervals not to exceed 1,000 hours TIS.

(3) For all affected airplanes, before further flight if any cracks are found during any inspection required in paragraph (f)(2) of this AD, do the following:

(i) Obtain a repair scheme from the manufacturer through the FAA at the address specified in paragraph (h)(1) of this AD;

(ii) Incorporate this repair scheme; and

(iii) Continue to inspect as specified in paragraph (f)(2) of this AD.

(4) For all affected airplanes, unless already done, do the following actions:

(i) Load factors limitation: Before further flight, as of May 27, 2008 (the effective date of this AD), the load factors limitation for solo flight is +5 and −3.5 Gs and when 2 persons are on board is +4.3 and −3.5 Gs.

(ii) Flick (snap roll) maneuvers speed limitation: Before further flight, as of May 27, 2008 (the effective date of this AD), for positive and negative flick maneuvers, the airspeed limitation is 160 km/hour (86 knots).

(5) For all affected airplanes, before further flight after May 27, 2008 (the effective date of this AD), fabricate a placard:

(i) Incorporate the following words (using at least ⅛-inch letters) in the placard and install this placard on the instrument panel within the pilot's clear view: “THE NEVER EXCEED AIRSPEED FOR POSITIVE OR NEGATIVE FLICK MANEUVERS IS 160 KM/H (86 KNOTS). THE LOAD FACTORS LIMITATION FOR SOLO FLIGHT IS +5 AND −3.5 Gs AND WHEN 2 PERSONS ARE ON BOARD IS +4.3 AND −3.5 Gs.”

(ii) The owner/operator holding at least a private pilot certificate as authorized by section 43.7 of the Federal Aviation Regulations (14 CFR 43.7) may fabricate the placard required in paragraph (g)(3)(i) of this AD. Make an entry into the aircraft records showing compliance with this portion of the AD in accordance with section 43.9 of the Federal Aviation Regulations (14 CFR 43.9).

FAA AD Differences

Note: This AD differs from the MCAI and/or service information as follows: This AD does not include the requirement from the MCAI to route the request to operate beyond the load factors limitation and flick (snap roll) maneuvers speed limitation through the Direction Générale de L'Aviation Civile (DGAC). You may make this request to the FAA following paragraph (h)(1) of this AD.

Other FAA AD Provisions

(h) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI French AD 2003-375(A), dated October 1, 2003; Avions Mudry & CIE Service Bulletin CAP 10B No. 16, dated April 27, 1992, APEX Aircraft Document No. 1000913GB, dated February 4, 2002; APEX Aircraft Document No. 1000914GB, dated February 4, 2002; and APEX Aircraft Document No. 1000915GB, dated February 4, 2002, for related information.

Material Incorporated by Reference

(j) You must use Avions Mudry & CIE Service Bulletin CAP 10B No. 16, dated April 27, 1992; APEX Aircraft Document No. 1000913GB, dated February 4, 2002; APEX Aircraft Document No. 1000914GB, dated February 4, 2002; and APEX Aircraft Document No. 1000915GB, dated February 4, 2002, to do the actions required by this AD, unless the AD specifies otherwise.

(1) The Director of the Federal Register approved the incorporation by reference of APEX Aircraft Document No. 1000913GB, dated February 4, 2002; APEX Aircraft Document No. 1000914GB, dated February 4, 2002; and APEX Aircraft Document No. 1000915GB, dated February 4, 2002, under 5 U.S.C. 552(a) and 1 CFR part 51.

(2) On July 23, 1993 (58 FR 31342, June 2, 1993), the Director of the Federal Register previously approved the incorporation by reference of Avions Mudry & CIE Service Bulletin CAP 10B No. 16, dated April 27, 1992.

(3) For service information identified in this AD, contact APEX Aircraft, Bureau de Navigabilité, 1, route de Troyes, 21121 DAROIS—France; telephone: +33 380 35 65 10; fax +33 380 35 65 15; e-mail: airworthiness@apex-aircraft.com; Internet: http://www.apex-aircraft.com.

(4) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on April 11, 2008.
James E. Jackson,
Acting Manager, Small Airplane Directorate, Aircraft Certification Service.

[FR Doc. E8-8360 Filed 4-18-08; 8:45 am]

BILLING CODE 4910-13-P